DEPARTMENT OF COMMERCE

[A-560-803]

Extruded Rubber Thread From Indonesia: Rescission of Antidumping Duty Administrative Review

AGENCY: Import Administration, International Trade Administration, Department of Commerce.

ACTION: Notice of rescission of antidumping duty administrative review.

SUMMARY: On July 7, 2000, the Department of Commerce (“the Department”) initiated an administrative review of the antidumping duty order on extruded rubber thread from Indonesia for one manufacturer/exporter of the subject merchandise, P.T. Swasthi Parama Mulya (“Swasthi”), for the period May 12, 1999 through April 30, 2000. The Department is rescinding this review after receiving a timely withdrawal from the sole party requesting a review.

EFFECTIVE DATE: September 1, 2000.

FOR FURTHER INFORMATION CONTACT: Russell Morris, AD/CVD Enforcement Office VI, Group II, Import Administration, International Trade Administration, U.S. Department of Commerce, 14th Street and Constitution Avenue, NW, Washington, DC 20230; telephone (202) 482-1775.

The Applicable Statute

Unless otherwise indicated, all citations to the Tariff Act of 1930, as amended (“the Act”), are references to the provisions effective January 1, 1995, the effective date of the Uruguay Round Agreements Act (“URAA”). In addition, unless otherwise indicated, all citations to the Department's regulations are to the regulations at 19 CFR part 351 (1999).

Background

On May 29, 2000, Swasthi requested that the Department conduct an administrative review of its shipments for the period May 12, 1999 through April 30, 2000. On July 7, 2000, the Department published in the Federal Register a notice of initiation of administrative review with respect to Swasthi for the period May 12, 1999 through April 30, 2000. See Initiation of Antidumping and Countervailing Duty Administrative Reviews and Requests for Revocations in Part, 65 FR 41942 (July 7, 2000). On August 14, 2000, Swasthi withdrew its request for a review and requested that the review be terminated.

Rescission of Review

Pursuant to 19 CFR 351.213(d)(1), the Department will rescind an administrative review if a party that requested the review withdraws the request within 90 days of the date of publication of the notice of initiation of the requested review. Because Swasthi's request for termination was submitted within the 90-day time limit, and there were no requests for review from other interested parties, we are rescinding this review. We will issue appropriate appraisement instructions directly to the U.S. Customs Service. This notice is in accordance with section 777(i) of the Act and 19 CFR 351.213(d)(4).

Dated: August 24, 2000.
Holly A. Kuga,
Acting Deputy Assistant Secretary, Import Administration, Group II.

[FR Doc. 00-22550 Filed 8-31-00; 8:45 am]

BILLING CODE 3510-05-M